DEPARTMENT OF STATE

[Delegation of Authority No. 398]

Authority To Submit Declarations and Claim Privileges on Behalf of the United States Under Military Rules of Evidence 505 and 506

By virtue of the authority vested in the Secretary of State, including the Department of State Basic Authorities Act, as amended (22 U.S.C. 2651a), I hereby delegate to the Legal Adviser, to the extent authorized by law, the authority to claim the privileges and provide the declarations described in Military Rules of Evidence 505 and 506.

Any act, executive order, regulation, or procedure subject to, or affected by, this delegation shall be deemed to be such act, executive order, regulation, or procedure as amended from time to time. This delegation of authority does not revoke or otherwise affect any other delegation of authority.

Notwithstanding this delegation of authority, this authority may be exercised by the Secretary, the Deputy Secretary, and the Deputy Secretary for Management and Resources.

This delegation of authority shall be published in the Federal Register.

Dated: July 20, 2016.
John F. Kerry,
Secretary of State.

[FR Doc. 2016-17936 Filed 7-27-16; 8:45 am]

BILLING CODE 4710-08-P